DEPARTMENT OF ENERGY

Federal Energy Regulatory Commission

Notice Announcing Preliminary Permit Drawing

May 28, 2010.

In the matter of: Three Rivers Park District, Project No. 13457-000, BOST1 Hydroelectric LLC, Project No. 13458-000.

On May 1, 2009, at 8:30 a.m., the Commission received two preliminary permit applications for proposed projects to be located at the existing Coon Rapids Dam on the Mississippi River in Hennepin and Anoka Counties, Minnesota.¹ The applications were filed by Three Rivers Park District, for Project No. 13457 and BOST1 Hydroelectric LLC, for Project No. 13458.

¹ The Commission is open each day from 8:30 a.m. to 5 p.m., except Saturdays, Sundays, and holidays. 18 CFR 375.101(c) (2009). The applications were filed between 5 p.m. on Thursday April 30, 2009, and 8:30 a.m. on Friday May 1, 2009. Under the Commission's Rules of Practice and Procedure, any document received after regular business hours is considered filed at 8:30 a.m. on the next regular business day. 18 CFR 385.2001(a)(2) (2009).

Where all permit applicants are municipalities or all permit applicants are non-municipalities, and no applicant's plans are better adapted than the others' to develop, conserve, and utilize in the public interest the water resources of a region, the Commission issues a permit to the applicant who filed first in time.² In this case, because two applications from entities not claiming municipal preference are deemed filed at the same time, the Commission will conduct a random tie breaker to determine priority. In the event that the Commission concludes that neither applicant's plans are better adapted than the other, priority will be determined accordingly.

² 18 CFR 4.37 (2009). See, e.g., BPUS Generation Development, LLC, 126 FERC ¶ 61,132 (2009).

On June 8, 2010, at 2 p.m. (eastern time), the Secretary of the Commission, or her designee, will, by random drawing, determine the filing priority for the two applicants identified in this notice. The drawing is open to the public and will be held in room 2C, the Commission Meeting Room, located at 888 First St., NE., Washington, DC 20426. The results of the drawing will be recorded by the Secretary or her designee. A subsequent notice will be issued by the Secretary announcing the results of the drawing.

Kimberly D. Bose,
Secretary.

[FR Doc. 2010-13558 Filed 6-7-10; 8:45 am]

BILLING CODE 6717-01-P